DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request in filed in writing with the Director, Division of Trade Adjustment Assistance, at the address shown below, not later than May 27, 2003.

Interested persons are invited to submit written comments regarding the subject matter of the investigations to the Director, Division of Trade Adjustment Assistance, at the address shown below, not later than May 27, 2003.

The petitions filed in this case are available for inspection at the Office of the Director, Division of Trade Adjustment Assistance, Employment and Training Administration, U.S. Department of Labor, Room C-5311, 200 Constitution Avenue, NW., Washington, DC 20210.

Signed at Washington, DC, this 28th day of April, 2003.
Terrence Clark,
Acting Director, Division of Trade Adjustment Assistance.

Appendix
[Petitions Instituted Between 04/22/2003 and 04/25/2003]
TA-W | Subject firm (petitioners) | Location | Date of institution | Date of petition
51,543 | Rexnord Industries (Comp) | Morganton, NC | 04/22/2003 | 04/21/2003
51,544 | Paramount Apparel International, Inc. (Wkrs) | Winona, MO | 04/22/2003 | 04/15/2003
51,545 | Temple-Inland Forest Products Corp. (Comp) | Mt. Jewett, PA | 04/22/2003 | 04/14/2003
51,546 | Farley's and Sathers Candy Co., Inc. (Comp) | New Orleans, LA | 04/22/2003 | 04/18/2003
51,547 | Datacard Corporation (Wkrs) | Minnetonka, MN | 04/22/2003 | 04/18/2003
51,548 | Cypress Semiconductor (Wkrs) | Colorado Spgs., CO | 04/22/2003 | 04/15/2003
51,549 | Virtual Magic Animation, Inc. (Comp) | N. Hollywood, CA | 04/22/2003 | 04/18/2003
51,550 | Square D Company (Comp) | Asheville, NC | 04/22/2003 | 04/21/2003
51,551 | Comp-U-Solve International, Inc. (Comp) | Elgin, IL | 04/22/2003 | 04/15/2003
51,552 | Celestica (Comp) | Westminster, CO | 04/22/2003 | 04/21/2003
51,553 | Arvin Meritor (Comp) | Loudon, TN | 04/22/2003 | 04/09/2003
51,554 | Greensboro Apparel (Wkrs) | Greensboro, AL | 04/22/2003 | 04/21/2003
51,555 | BASF Corporation (Comp) | Anderson, SC | 04/22/2003 | 04/21/2003
51,556 | Sylvan America, Inc. (Wkrs) | Kittanning, PA | 04/22/2003 | 04/15/2003
51,557 | Agilent Technologies (Comp) | Colorado Spgs., Co | 04/22/2003 | 04/21/2003
51,558 | Lexington Fabrics, Inc. (Comp) | Florence, AL | 04/22/2003 | 04/15/2003
51,559 | Providence Steel, Inc. (Comp) | Providence, RI | 04/22/2003 | 04/18/2003
51,560 | Brazeway, Inc. (Wkrs) | Dewitt, IA | 04/22/2003 | 04/15/2003
51,561 | Motorola (Comp) | Tewksbury, MA | 04/22/2003 | 04/18/2003
51,562 | Interflex Group (The) (Wkrs) | Ashland, VA | 04/22/2003 | 04/16/2003
51,563 | Omnglow Corporation (Comp) | W. Springfield, MA | 04/22/2003 | 04/21/2003
51,564 | Alphabet (Comp) | Mebane, NC | 04/23/2003 | 04/08/2003
51,565 | ThyssenKrupp Budd (UAW) | Philadelphia, PA | 04/23/2003 | 04/22/2003
51,566 | Silver Bay Logging, Inc. (Wkrs) | Wrangell, AK | 04/23/2003 | 04/22/2003
51,567 | BGF Industries, Inc. (Comp) | South Hill, VA | 04/23/2003 | 04/22/2003
51,568 | Wellington Home Products (Comp) | Washington, GA | 04/23/2003 | 04/22/2003
51,569 | Arris Group (Wkrs) | Rockfalls, IL | 04/23/2003 | 04/11/2003
51,570 | Lydall Composite Materials (Wkrs) | Covington, TN | 04/23/2003 | 04/21/2003
51,571 | Shoals Graphics (Comp) | Florence, AL | 04/23/2003 | 04/14/2003
51,572 | Lonestar Cutting Services (Wkrs) | El Paso, TX | 04/24/2003 | 04/14/2003
51,573 | Agilent Technologies (Comp) | Loveland, CO | 04/24/2003 | 04/21/2003
51,574 | Gator Industries (Wkrs) | Hialeah, FL | 04/24/2003 | 04/11/2003
51,575 | C P Shades (Wkrs) | Sausalito, CA | 04/24/2003 | 04/15/2003
51,576 | Galt Black Warehouse (Comp) | Bangor, ME | 04/24/2003 | 04/09/2003
51,577 | ACS (Comp) | El Paso, TX | 04/24/2003 | 04/29/2003
51,578 | Earthlink, Inc. (Wkrs) | Pasadena, CA | 04/24/2003 | 04/23/2003
51,579 | Peavey Electronics, Inc. (Wkrs) | Leaksville, MS | 04/24/2003 | 04/15/2003
51,580 | Plexus (Wkrs) | San Diego, CA | 04/24/2003 | 04/16/2003
51,581 | Keykert USA, Inc. (Comp) | Webberville, MI | 04/24/2003 | 04/24/2003
51,582 | Jagger Brothers (Comp) | Springvale, ME | 04/24/2003 | 04/14/2003
51,583 | Lear Corporation (Comp) | Traverse City, MI | 04/24/2003 | 04/23/2003
51,584 | General Electric Power Systems (Wkrs) | Bangor, ME | 04/24/2003 | 04/26/2003
51,585 | Masonite International (Wkrs) | Lisbon Falls, ME | 04/24/2003 | 04/11/2003
51,586 | Solutia (Wkrs) | Trenton, MI | 04/24/2003 | 04/20/2003
51,587 | Nestle Confections and Snacks (RWDSU) | Fulton, NY | 04/24/2003 | 04/14/2003
51,588 | Zachry Construction Corp. (Wkrs) | Natchez, MS | 04/24/2003 | 04/04/2003
51,589 | Oxford Wire and Cable Services (Comp) | Oxford, MS | 04/24/2003 | 04/17/2003
51,590 | Ansell Protective Clothing (Comp) | Thomasville, NC | 04/24/2003 | 04/15/2003
51,591 | Fayscott (Comp) | Dexter, ME | 04/24/2003 | 04/16/2003
51,592 | Woodard, LLC (Comp) | Salisbury, NC | 04/24/2003 | 04/24/2003
51,593 | Draka USA (Wkrs) | Schulkill Haven, PA | 04/24/2003 | 04/16/2003
51,594 | Jacobs Textiles (NJ) | Fervington, NJ | 04/24/2003 | 04/23/2003
51,595 | Paradise Fisheries (Comp) | Kodiak, AK | 04/25/2003 | 04/21/2003
51,596 | State of Alaska Commercial Fisheries (Comp) | Nondalton, AK | 04/25/2003 | 04/18/2003
51,597 | F/V Melina (Comp) | Old Harbor, AK | 04/25/2003 | 04/24/2003
51,598 | PCS (Wkrs) | North Brook, IL | 04/25/2003 | 04/25/2003
51,599 | TekSystems (Wkrs) | Edina, MN | 04/25/2003 | 04/22/2003
51,600 | Wheatland Tub Co. (USWA) | Wheatland, PA | 04/25/2003 | 04/22/2003
51,601 | Schroder Boards (Comp) | Bingen, WA | 04/25/2003 | 04/18/2003
51,602 | Sara Lee Intimate Apparel (Comp) | Woolwine, VA | 04/25/2003 | 04/28/2003
51,603 | Sony Semiconductor (Wkrs) | San Antonio, TX | 04/25/2003 | 04/23/2003
51,604 | Nortel Networks (Wkrs) | Bohemia, NY | 04/25/2003 | 04/25/2003
51,605 | Daws Manufacturing Co., Inc. (Comp) | Parsons, TN | 04/25/2003 | 04/23/2003
51,606 | Descartes US Holdings (Wkrs) | Pittsburgh, PA | 04/25/2003 | 04/24/2003
51,607 | Spicer Drivershaft Mfg., Inc. (UAW) | Lima, OH | 04/25/2003 | 04/22/2003
51,608 | Precision Components Corp. (Comp) | York, PA | 04/25/2003 | 04/25/2003
51,609 | Motorola (FLA) | Sunrise, FL | 04/25/2003 | 04/28/2003
51,610 | Asyst Technologies (Comp) | Williston, VT | 04/25/2003 | 04/22/2003
51,611 | National Steel Corp. (Comp) | Mishawaka, IN | 04/25/2003 | 04/08/2003

[FR Doc. 03-12290 Filed 5-15-03; 8:45 am]

BILLING CODE 4510-30-M